DEPARTMENT OF THE INTERIOR

Fish and Wildlife Service

Endangered and Threatened Wildlife and Plants; 90-Day Finding for a Petition to Delist the Preble's Meadow Jumping Mouse in Colorado and Wyoming and Initiation of a 5-Year Review

AGENCY: Fish and Wildlife Service, Interior.

ACTION: Notice of 90-day petition finding and initiation of status review for the 12-month finding and 5-year review.

SUMMARY: We, the U.S. Fish and Wildlife Service (Service), announce a 90-day finding on a petition to remove the Preble's Meadow Jumping Mouse (Preble's) (Zapus hudsonius preblei) from the Federal List of Threatened and Endangered Wildlife and Plants pursuant to the Endangered Species Act of 1973, as amended (Act) (16 U.S.C. 1531 et seq.). We find that the petition and additional information in our files presents substantial information that delisting Preble's may be warranted and are initiating a status review. We are requesting submission of any new information on the Preble's since its original listing as an endangered species in 1998. Following this status review, we will issue a 12-month finding on the petition to delist. Because a status review is also required for the 5-year review of listed species under section 4(c)(2)(A) of the Act, we are electing to prepare these reviews simultaneously. At the conclusion of these simultaneous reviews, we will issue the 12-month finding on the petition, as provided in section 4(b)(3)(B) of the Act, and make the requisite finding under section 4(c)(2)(B) of the Act based on the results of the 5-year review.

DATES: The 90-day finding announced in this document was made on March 18, 2004. To be considered in the 12-month finding on this petition, comments and information must be submitted to us by June 1, 2004.

ADDRESSES: Questions or information concerning this petition should be sent to the Field Supervisor, Colorado Fish and Wildlife Office, Ecological Services, 755 Parfet Street, Suite 361, Lakewood, Colorado 80215. The separate petition finding, supporting data, and comments are available for public review, by appointment, during normal business hours at the above address.

FOR FURTHER INFORMATION CONTACT: Ms. Susan Linner at 303-275-2370 (see ADDRESSES section).

SUPPLEMENTARY INFORMATION:

Background

Section 4(b)(3)(A) of the Act requires that we make a finding on whether a petition to list, delist, or reclassify a species presents substantial information to indicate that the petitioned action may be warranted. To the maximum extent practicable, this finding is to be made within 90 days of receipt of the petition, and the finding is to be published promptly in the Federal Register. If we find substantial information exists to support the petitioned action, we are required to promptly commence a review of the status of the species (50 CFR 424.14). “Substantial information” is defined in 50 CFR 424.14(b) as “that amount of information that would lead a reasonable person to believe that the measure proposed in the petition may be warranted.” Petitioners need not prove that the petitioned action is warranted to support a “substantial” finding; instead, the key consideration in evaluating a petition for substantiality involves demonstration of the reliability and adequacy of the information supporting the action advocated by the petition.

When considering an action for listing, delisting, or reclassifying a species, we are required to determine whether a species is endangered or threatened based on one or more of the five listing factors as described at 50 CFR 424.11. Delisting may be warranted as a result of (1) extinction; (2) recovery; and/or (3) a determination that the original data used for classification of the species as endangered or threatened, were in error.

On May 13, 1998, we listed the Preble's meadow jumping mouse (Preble's) (Zapus hudsonius preblei) was listed as threatened under the Act (63 FR 26517). On June 23, 2003, we published the Final Rule to Designate Critical Habitat for the Preble's (68 FR 37275). We recently responded to a petition on December 18, 2003, in which we found that there was not substantial information to indicate that delisting may be warranted (68 FR 70523). Some of the most pertinent information available to the current petitioners, as discussed below in Review of Petitions, was not available to the Service at the time of the December 18, 2003, finding.

Biology and Distribution

The Preble's is a small rodent in the family Zapodidae and is 1 of 12 recognized subspecies of the species Zapus hudsonius, the meadow jumping mouse. This largely nocturnal mouse is 20 to 23 centimeters (8 to 9 inches) long (its tail accounts for 60 percent of its length), with hind feet adapted for jumping. The large hind feet can be one-third again as large as those of other mice of similar size. The Preble's is found in both the North and South Platte River basins, generally, from the eastern flank of the Laramie Mountains in southeastern Wyoming, southward along the eastern flank of the Front Range of Colorado and into the Arkansas River basin (Long 1965; Hall 1981; Clark and Stromberg 1987; Fitzgerald et al. 1994; Clippinger 2002). Elevation appears to mark the western boundary of the Preble's distribution. The Preble's is generally found between approximately 1,400 meters (4,600 feet) and 2,300 meters (7,600 feet). Typical habitat for the Preble's comprises well-developed plains riparian vegetation with adjacent, undisturbed grassland communities and a nearby water source. Well-developed plains riparian vegetation typically includes a dense combination of grasses, forbs, and shrubs; a taller shrub and tree canopy may be present (Bakeman 1997). The species hibernates near these riparian zones, usually, from September or October to May (Shenk and Sivert 1999; Schorr 2001).

The Preble's is closely associated with riparian ecosystems that are relatively narrow and represent a small percentage of the landscape. The decline in the extent and quality of Preble's habitat is considered the main factor threatening the subspecies (63 FR 26517; Hafner et al. 1998, Shenk 1998). Habitat alteration, degradation, loss, and fragmentation resulting from urban development, flood control, water development, agriculture, and other human land uses have adversely impacted Preble's populations (68 FR 37275; Ryon 1996). Habitat destruction may harm individual Preble's directly or indirectly by destroying nest sites, food resources, and hibernation sites, by disrupting behavior, or by forming a barrier to movement. Additional background information is available in the May 13, 1998, Final Rule to List the Preble's as a Threatened Species (63 FR 26517) and the Final Rule to Designate Critical Habitat for the Preble's meadow jumping mouse (68 FR 37275).

Review of Petitions

We received two similar petitions, both dated December 17, 2003, requesting us to remove the Preble's meadow jumping mouse from the Federal List of Threatened and Endangered Wildlife and Plants pursuant to the Act. Both the first petition, from Coloradans for Water Conservation and Development, and the second, from the State of Wyoming's Office of the Governor, maintain that Z. hudsonius preblei (Preble's) is not a valid subspecies, and therefore, based on “data error” (i.e., new information discovered) and “taxonomic revision,” Preble's should be delisted. As explained in our 1996 Petition Management Guidance (Service 1996), subsequent petitions are treated separately only when they are greater in scope than or broaden the area of review of the first petition. In this case, as both petitions are almost identical, the State of Wyoming's petition will therefore be treated as a comment on the first petition received.

The petition provided information on abundance and distribution, the five listing factors examined in a threats analysis, recent phylogenetic analysis and a review of the genetic and morphmetric analysis completed prior to listing, and suggests there may be connectivity between Z. hudsonius preblei (Preble's) and Z. h. campestris (Bear Lodge meadow jumping mouse), which is not threatened.

While most of the information presented in the petition is duplicative of information contained in the Service's files, particularly with regard to distribution, abundance, and threats, the petition does raise novel taxonomic questions not considered in our most recent 90-day finding (68 FR 70523).

The petition maintains that Z. hudsonius preblei is not a valid subspecies. Central to the petition's assertion is a phylogenetic and population genetic analysis of mitochondrial deoxyribonucleic acid (mtDNA) sequence data recently completed by the Denver Museum of Nature and Science. This study, jointly funded by the State of Wyoming and the Service, concluded that “Z. h. preblei was not a unique relative to Z. h. campestris” (Ramey et al. 2003). Ramey suggested that “the lack of genetic, morphological, or published ecological evidence for distinctiveness of Z. h. preblei from Z. h. campestris, means that these subspecies should be synonymized (considered the same subspecies—Z. h. campestris).” This study questions the accepted taxonomic classifications established by Krutzsch (1954) and should be evaluated for significance to the validity of Z. h. preblei.

The petition also presents information on the appropriateness of a Distinct Vertebrate Population Segment (DPS) designation. The petition states that, should the Service determine that Preble's is taxonomically not a valid subspecies, Preble's should be delisted and not considered further as a possible DPS. A DPS is defined in our February 7, 1996, Policy Regarding the Recognition of Distinct Vertebrate Population Segments (61 FR 4722). For a population to be listed under the Act as a distinct vertebrate population segment, three elements are considered: (1) The discreteness of the population segment in relation to the remainder of the species to which it belongs; (2) the significance of the population segment to the species to which it belongs; and (3) the population segment's conservation status in relation to the Act's standards for listing (i.e., is the population segment endangered or threatened?). Distinct population segments of vertebrate species, as well as subspecies of all listed species, may be proposed for separate reclassification or for removal from the list.

We will address the appropriate application of the DPS policy during the status review of the listed species as it is required by the DPS policy.

Finding

We have reviewed the petition and the supporting documents, as well as other information in our files. We find that the petitioner and other information in our files present substantial information to indicate that delisting of the Preble's may be warranted, and are initiating a status review. We will issue a 12-month finding in accordance with section 4(b)(3)(B) of the Act as to whether or not delisting is warranted.

Five-Year Review

Section 4(c)(2)(A) of the Act requires that we conduct a review of listed species at least once every five years. We are then, under section 4(c)(2)(B), to determine, on the basis of such a review, whether or not any species should be removed from the List (delisted), or reclassified from endangered to threatened, or threatened to endangered. Our regulations at 50 CFR 424.21 require that we publish a notice in the Federal Register announcing those species currently under active review. This notice announces our active review of the Preble's meadow jumping mouse.

Public Information Solicited

We are requesting information for both the 12-month finding and the 5-year review, as we are conducting these reviews simultaneously. When we make a finding that substantial information exists to indicate that listing or delisting a species may be warranted, we are required to promptly commence a review of the status of the species. To ensure that the status review is complete and based on the best available scientific and commercial information, we are soliciting information on Preble's. This includes information on genetics and taxonomic classification, the abundance and distribution of the subspecies, and the threats faced by Preble's in relation to the five listing factors (as defined in section 4(a)(1) of the Act). We request any additional information, comments, and suggestions from the public, other concerned governmental agencies, Tribes, the scientific community, industry or environmental entities, or any other interested parties concerning the status of Preble's.

The 5-year review considers all new information available at the time of the review. This review will consider the best scientific and commercial data that have become available since the current listing determination or most recent status review, such as:

A. Species biology, including, but not limited to, population trends, distribution, abundance, demographics, and genetics;

B. Habitat conditions, including, but not limited to, amount, distribution, and suitability;

C. Conservation measures that have been implemented that benefit the species;

D. Threat status and trends;

E. Other new information, data, or corrections, including, but not limited to, taxonomic or nomenclatural changes, identification of erroneous information contained in the List, and improved analytical methods.

Because in the 5-year review we will review the appropriateness of a DPS designation, we are particularly interested in information about the distribution and range of Z. h. preblei and Z. h. campestris, including information on the degree to which ranges overlap. Additionally, we are seeking information on any ecological, behavioral, or other differences that may indicate marked separation or a lack thereof between Z. h. preblei and Z. h. campestris.

If you wish to comment for either the 12-month finding or the 5-year review, you may submit your comments and materials to the Field Supervisor of the Colorado Fish and Wildlife Office (see ADDRESSES section). Our practice is to make comments, including names and home addresses of respondents, available for public review during regular business hours. Respondents may request that we withhold a respondent's identity, as allowable by law. If you wish us to withhold your name or address, you must state this request prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours at the Lakewood address (see ADDRESSES section).

References Cited

A complete list of all references cited in this finding is available, upon request, from the Colorado Fish and Wildlife Office (see ADDRESSES section).

Authority: The authority for this action is section 4 of the Endangered Species Act of 1973 (16 U.S.C. 1531 et seq.).

Dated: March 18, 2004.
Marshall Jones,
Acting Director, Fish and Wildlife Service.

[FR Doc. 04-7165 Filed 3-30-04; 8:45 am]

BILLING CODE 4310-55-P